DEPARTMENT OF TRANSPORTATION

Federal Aviation Administration

[Docket No. FAA-2007-23639]

Deadline for Notification of Intent To Use the Airport Improvement Program (AIP) Sponsor, Cargo, and Nonprimary Entitlement Funds for Fiscal Year 2007; Correction

AGENCY: Federal Aviation Administration, DOT.

ACTION: Notice; correction.

SUMMARY: The FAA is issuing a correction to the Notice published in the Federal Register on March 7, 2007 (72 FR 10292), Subject: Deadline for Notification to Use the Airport Improvement Program (AIP) Sponsor, Cargo, and Nonprimary Entitlement Funds for FY 2006. That Notice announced May 1, 2007, as the deadline for each airport sponsor to notify the FAA that it will use its fiscal year 2007 entitlement funds to accomplish projects identified in the Airports Capital Improvement Plan that was formulated in the spring of 2006. This correction changes the fiscal year referenced in the subject from “2006” to “2007”.

FOR FURTHER INFORMATION CONTACT: Mr. Kendall Ball (Kendall.Ball@faa.gov), Airports Financial Assistance Division (APP-500), Office of Airport Planning and Programming, Federal Aviation Administration (FAA, 800 Independence Avenue, SW., Washington, DC 20591, (202) 267-7436).

Correction

In FR Doc. No. FAA-2007-23639 published on March 7, 2007 (72 FR 10292) make the following correction:

On Page 10292, in the subject correct “Fiscal Year 2006” to read “Fiscal Year 2007”.

Barry L. Molar,
Manager, Airports Financial Assistance Division.

[FR Doc. 07-1391 Filed 3-21-07; 8:45 am]

BILLING CODE 4910-13-M